DEPARTMENT OF COMMERCE

National Oceanic and Atmospheric Administration

Availability of Seats for the Olympic Coast National Marine Sanctuary Advisory Council

AGENCY: National Marine Sanctuary Program (NMSP) National Ocean Service (NOS), National Oceanic and Atmospheric Administration, Department of Commerce (DOC).

ACTION: Notice and request for application.

SUMMARY: The Olympic Coast National Marine Sanctuary is seeking applicants for the education seat on its Sanctuary Advisory Council (Council). Applicants are chosen based upon their particular expertise and experience in relation to the seat for which they are applying; community and professional affiliations; philosophy regarding the conservation and management of marine resources; and the length of residence in the area affected by the Secretary. Applicants who are chosen as members should expect to serve a three-year term, pursuant to the Council's Charter.

DATES: Applications are due by July 15, 2000.

ADDRESSES: Application kits may be obtained by contacting: Nancy Beres, SAC Coordinator, Olympic Coast National Marine Sanctuary, 138 West 1st Street, Port Angeles, Washington, 98362. Completed applications should be sent to the same address.

FOR FURTHER INFORMATION CONTACT: Nancy Beres, SAC Coordinator, Olympic Coast National Marine Sanctuary, 138 West 1st Street, Port Angeles, Washington, 98362. Telephone: (360) 457-66722 x 30 E-mail: nancy.beres@noaa.gov.

SUPPLEMENTARY INFORMATION: The Olympic Coast National Marine Sanctuary Advisory Council is comprised of nineteen representatives of various local and regional organizations and agencies whose role is to advise the Sanctuary Manager on matters of policy and in reviewing strategic plans.

Authority: 16 U.S.C. Section 1431 et seq.

(Federal Domestic Assistance Catalog Number 11.429 Marine Sanctuary Program)

Dated: June 8, 2000.
Ted Lillestolen,
Deputy Assistant Administrator for Ocean Services and Coastal Zone Management.

[FR Doc. 00-14907 Filed 6-13-00; 8:45 am]

BILLING CODE 3510-08-M